DEPARTMENT OF THE INTERIOR

Bureau of Land Management

[CA-610-00-1220-QX]

Call for Nominations for the Bureau of Land Management's California Desert District Advisory Council

SUMMARY: The Bureau of Land Management's California Desert District is soliciting nominations from the public for five members of its District Advisory Council to serve the 2001-2003 three-year term. Council members provide advice and recommendations to BLM on the management of public lands in southern California. Nominations will be accepted through Thursday, August 31, 2000. The three-year term would begin January 1, 2001.

The five positions to be filled include:

• One environmental protection representative;

• One renewable resources representative representing grazing interests;

• One elected official representing local or county government;

• Two public-at-larger representatives.

Council members are appointed to serve an initial 3-year term, and may be nominated for reappointment for an additional three-year term. Five council members are completing their second 3-year term and retire December 31, 2000.

The California Desert District Advisory Council is comprised of 15 private individuals who represent different interests and advise BLM officials on polices and programs concerning the management of approximately 11 million acres of public land in southern California. The Council meets in formal session three to four times each year in various locations throughout the California Desert District. Council members serve without compensation except for reimbursement of travel expenditures incurred in the course of their duties.

Section 309 of the Federal Land Policy and Management Act (FLPMA) directs the Secretary of the Interior to involve the public in planning and issues related to management of BLM administered lands. The Secretary also selects council nominees consistent with the requirements of the Federal Advisory Committee Act (FACA), which requires nominees appointed to the council be balanced in terms of points of view and representative of the various interests concerned with the management of the public lands.

The Council also is balanced geographically, and BLM will try to find qualified representatives from areas throughout the California Desert District. The District covers portions of eight counties, and includes 10.7 million acres of public land in the California Desert Conservation Area and 300,000 acres of scattered parcels in San Diego, western Riverside, western San Bernardino, Orange, and Los Angeles Counties (known as the South Coast).

Any group or individual may nominate a qualified person, based upon their education, training, and knowledge of BLM, the California Desert, and the issues involving BLM-administered public lands throughout southern California. Qualified individuals also may nominate themselves.

Nominations must include the name of the nominees; work and home addresses and telephone numbers, fax number, and E-mail addresses; a biographical sketch that includes the nominee's work and public service record; any applicable outside interests or other information that demonstrates the nominee qualifications for the position; and the specific category of interest in which the nominee is best qualified to offer advice and council. Nominees may contact the BLM California Desert District External Affairs staff at (909) 697-5220 or write to the address below and request a copy of the nomination form.

All nominations must be accompanied by letters of reference from represented interests, organizations, or elected officials supporting the nomination. Individuals nominating themselves must provide at least one letter of recommendation. Advisory Council members are appointed by the Secretary of the Interior, generally in late January or early February.

Nominations should be sent to the District Manager, Bureau of Land Management, California Desert District, 6221 Box Spring Boulevard, Riverside, California 92507.

FOR FURTHER INFORMATION CONTACT: BLM California Desert District External Affairs: Doran Sanchez, (909) 697-5220.

Dated: June 16, 2000.
Tim Salt,
District Manager.

[FR Doc. 00-15768 Filed 6-21-00; 8:45 am]

BILLING CODE 4310-40-M